DEPARTMENT OF AGRICULTURE

Agricultural Research Service

Notice of Intent To Grant Exclusive License, Correction

AGENCY: Agricultural Research Service, USDA.

ACTION: Notice of intent.

SUMMARY:

Correction

In the Federal Register of September 22, 2017, FR Doc. No 183, page 44377, in the SUMMARY Section, should read as follows:

Notice is hereby given that the U.S. Department of Agriculture, Agricultural Research Service, intends to grant to Rainier Seeds, Inc. of Davenport, Washington, an exclusive license to the variety of crested wheatgrass described in Plant Variety Protection Application Number 201600403, `USDA-RANGECREST,' filed on September 4, 2016. Dated May 13, 2019.

ADDRESSES: USDA, ARS, Office of Technology Transfer, 5601 Sunnyside Avenue, Rm. 4-1174, Beltsville, Maryland 20705-5131.

FOR FURTHER INFORMATION CONTACT: Brian T. Nakanishi of the Office of Technology Transfer at the Beltsville address given above; telephone: 301-504-5989.

Dated: May 14, 2019.
Yvette Anderson,
Federal Register Liaison Officer for ARS, ERS, NASS.

[FR Doc. 2019-10414 Filed 5-17-19; 8:45 am]

BILLING CODE 3410-03-P